DEPARTMENT OF COMMERCE

Foreign-Trade Zones Board

[A(27F)-50-02]

Foreign-Trade Zone 122—Corpus Christi, TX Redesignation of Foreign-Trade Subzone 122A

Based on a request by the Port of Corpus Christi Authority, grantee of FTZ 122, for a minor modification of the grant of authority for FTZ Subzone 122A, at the former Coastal refinery, in Nueces County, Texas, Subzone 122A is redesignated as Site 2 and Site 3 of Subzone 122J, Valero Refining Company (Valero). Valero has leased the refinery from Coastal and will operate the facilities under one subzone operating system. The authority for both subzones has most recently been amended by Board Order 1116 (65 FR 52696, 8/30/00), and the authority for Subzone 122J will continue to be based on the authority in Board Order 1116, including its conditions and restrictions.

Dated: December 4, 2002.
Dennis Puccinelli,
Executive Secretary.

[FR Doc. 02-31378 Filed 12-11-02; 8:45 am]

BILLING CODE 3510-DS-P